DEPARTMENT OF EDUCATION

Office of Special Education Programs; Notice of Extension

AGENCY: Office of Special Education and Rehabilitative Services, Department of Education.

ACTION: Notice of Extension.

SUMMARY: On August 29, 2000, a notice inviting applications for new awards for Grant Applications under Part D, Subpart 2 of the Individuals with Disabilities Education Act (IDEA) was published in the Federal Register (65 FR 52618—52628). The notice included an absolute priority for Accessible Media for Students with Visual Impairments and Print Disabilities (84.327K), shown on page 52624, which requires clarification. This notice provides a clarification and extends the deadline for transmittal of applications for Accessible Media for Students with Visual Impairments and Print Disabilities only.

The notice published on August 29, 2000 contained a requirement that, to be considered for funding under the Accessible Media for Students with Visual Impairments and Print Disabilities priority, the project must handle requests for educational materials from students who are visually or print disabled at all educational levels without charging for materials or membership fees. This notice clarifies that the grantee may not charge students or their families a membership fee or charge them fees for educational materials at any educational level that are produced with funds received under this priority. However, the grantee may charge schools, State or local educational agencies, or other educational entities participating in this program, at any educational level, a membership fee or charge them fees for educational materials that are produced with funds received under this priority. Institutions that are charged membership fees cannot pass on these fees or other costs related to obtaining educational materials to students or families.

Deadline for Transmittal of Applications: The deadline has been extended to November 3, 2000.

Deadline for Intergovernmental Review: The deadline has been extended to January 2, 2001.

FOR FURTHER INFORMATION CONTACT: Lynel McFadden, telephone: (202) 205-9095. Individuals who use a telecommunications device for the deaf (TDD) may call the TDD number at (202) 205-9136. Internet: Lynel_McFadden@ed.gov

Individuals with disabilities may obtain this document in an alternate format (e.g., Braille, large print, audiotape, or computer diskette) on request to the contact person listed in the preceding paragraph.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1487.

Dated: October 5, 2000.
Judith E. Heumann,
Assistant Secretary for Special Education and Rehabilitative Services.

[FR Doc. 00-25997 Filed 10-6-00; 8:45 am]

BILLING CODE 4000-01-U